DEPARTMENT OF COMMERCE

United States Patent and Trademark Office

[Docket No. PTO-C-2020-0038]

Performance Review Board

AGENCY: United States Patent and Trademark Office, Commerce.

ACTION: Notice.

SUMMARY: In conformance with the Civil Service Reform Act of 1978, the United States Patent and Trademark Office (USPTO) announces the appointment of persons to serve as members of its Performance Review Board (PRB). The PRB reviews and makes recommendations concerning proposed performance appraisals, ratings, bonuses, pay adjustments, and other appropriate personnel actions for incumbents of Senior Level and Senior Executive Service positions within USPTO.

ADDRESSES: Office of Human Resources, United States Patent and Trademark Office, P.O. Box 1450, Alexandria, VA 22313-1450.

FOR FURTHER INFORMATION CONTACT: Anne T. Mendez, Director, Human Capital Management, at 571-272-6173.

SUPPLEMENTARY INFORMATION: The membership of the USPTO's PRB is as follows:

Laura A. Peter, Chair, Deputy Under Secretary of Commerce for Intellectual Property and Deputy Director of the USPTO

Frederick W. Steckler, Vice Chair, Chief Administrative Officer, USPTO

Andrew H. Hirshfeld, Commissioner for Patents, USPTO

David S. Gooder, Commissioner for Trademarks, USPTO

Dennis J. Hoffman, Chief Financial Officer, USPTO

Henry J. Holcombe, Chief Information Officer, USPTO

Nicholas T. Matich IV, Acting General Counsel, USPTO

Shira Perlmutter, Chief Policy Officer and Director for International Affairs, USPTO Alternates

Meryl L. Hershkowitz, Deputy Commissioner for Trademark Operations, USPTO

Andrew I. Faile, Deputy Commissioner for Patents, USPTO

Dated: September 3, 2020.
Andrei Iancu,
Under Secretary of Commerce for Intellectual Property and Director of the United States Patent and Trademark Office.

[FR Doc. 2020-20181 Filed 9-11-20; 8:45 am]

BILLING CODE 3510-20-P